DEPARTMENT OF THE INTERIOR

Fish and Wildlife Service

Notice of Receipt of Application for Endangered Species Permit

AGENCY: Fish and Wildlife Service, Interior.

ACTION: Notice of receipt.

SUMMARY: The following applicant has applied for a permit to conduct certain activities with an endangered species. This notice is provided pursuant to section 10(c) of the Endangered Species Act of 1973, as amended (16 U.S.C. 1531 et seq.):

PRT—TE069518

Applicant: University of Maine, Orono, Maine

DATES: Written data or comments on this application must be received at the address given below by May 12, 2003.

ADDRESSES: Documents and other information submitted with this application are available for review by any party who submits a written request for a copy of such documents to the following office within 30 days of the date of publication of this notice: U.S. Fish and Wildlife Service, 300 Westgate Center Drive, Hadley, Massachusetts 01035. Attention: Diane Lynch, Regional Endangered Species Permits Coordinator, telephone: (413) 253-8628; facsimile: (413) 253-8482.

FOR FURTHER INFORMATION CONTACT: Diane Lynch, telephone: (413) 253-8628; facsimile (413) 253-8482.

SUPPLEMENTARY INFORMATION: You are invited to comment on the application from the University of Maine, PRT-TE069510. This application requests authorization to take (harass, in the form of stress, and kill) Gulf of Maine, distinct population segment, Atlantic salmon (Salmo salar) stocks, for scientific purposes. DPS stocks for this study include stock from the: Denny's, Machias, East Machias, Pleasant, Sheepscot, and Narraguagus Rivers. No wild fish will be used in this study only stocks currently propagated at the Craig Brook National Fish Hatchery.

Dated: March 28, 2003.
Richard O. Bennett,
Acting Regional Director.

[FR Doc. 03-8743 Filed 4-9-03; 8:45 am]

BILLING CODE 4310-55-M